DEPARTMENT OF COMMERCE

Patent and Trademark Office

[Docket No. PTO-P-2022-0032]

Expanding Opportunities To Appear Before the Patent Trial and Appeal Board

AGENCY: United States Patent and Trademark Office, Department of Commerce.

ACTION: Request for comments; extension of written comment period.

SUMMARY: The United States Patent and Trademark Office (Office or USPTO) published a request for comments in the Federal Register on October 18, 2022, seeking comments from the public on the requirements to practice before the Patent Trial and Appeal Board (PTAB). Through this notice, the Office is extending the period for written public comments until January 31, 2023.

DATES: Comment Deadline: Written comments must be received by January 31, 2023.

ADDRESSES: For reasons of government efficiency, comments must be submitted through the Federal eRulemaking Portal at www.regulations.gov. To submit comments via the portal, enter docket number PTO-P-2022-0032 on the homepage and click “Search.” The site will provide a search results page listing all documents associated with this docket. Find a reference to this request for comments and click on the “Comment Now!” icon, complete the required fields, and enter or attach your comments. Attachments to electronic comments will be accepted in ADOBE® portable document format (PDF) or MICROSOFT WORD® format. Because comments will be made available for public inspection, information that the submitter does not desire to make public, such as an address or phone number, should not be included. Visit the Federal eRulemaking Portal for additional instructions on providing comments via the portal. If electronic submission of and access to comments is not feasible due to a lack of access to a computer and/or the internet, please contact the Office using the contact information below for special instructions on how to submit comments by other means.

FOR FURTHER INFORMATION CONTACT: Michael Tierney, Vice Chief Administrative Patent Judge; Scott Moore, Acting Vice Chief Administrative Patent Judge; and/or Jamie Wisz, Lead Administrative Patent Judge; at 571-272-9797.

SUPPLEMENTARY INFORMATION: On October 18, 2022, the USPTO published a Federal Register Notice announcing that the Office seeks public input on whether revisions should be made to the criteria for appearing as counsel and/or lead counsel in PTAB proceedings under the Leahy-Smith America Invents Act. The request for comments also sought public input on whether the USPTO should make changes or improvements to training and development programs, such as the PTAB's Legal Experience and Advancement Program, to increase opportunities for practitioners who wish to appear before the PTAB. 87 FR 63047. The notice requested that written public comments be submitted on or before January 17, 2023.

Through this notice, the USPTO is extending the period for written public comments until January 31, 2023, to give interested members of the public additional time to submit comments. Previously submitted written comments do not need to be resubmitted. Any comments received after the close of the previous deadline of January 17, 2023, and the publication date of this notice will be treated as timely and given full consideration.

All other information and instructions to commenters provided in the October 18, 2022, notice remain unchanged.

Katherine K. Vidal,
Under Secretary of Commerce for Intellectual Property and Director of the United States Patent and Trademark Office.

[FR Doc. 2023-00947 Filed 1-18-23; 8:45 am]

BILLING CODE 3510-16-P